DEPARTMENT OF THE INTERIOR

National Park Service

[NPS-WASO-NAGPRA-NPS0032947; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes and has determined that there is no cultural affiliation between the human remains and associated funerary objects and any present-day Indian Tribe. Representatives of any Indian Tribe not identified in this notice that wish to request transfer of control of these human remains and associated funerary objects should submit a written request to the TVA. If no additional requestors come forward, transfer of control of the human remains and associated funerary objects to the Indian Tribes stated in this notice may proceed.

DATES: Representatives of any Indian Tribe not identified in this notice that wish to request transfer of control of these human remains and associated funerary objects should submit a written request with information in support of the request to the TVA at the address in this notice by December 8, 2021.

FOR FURTHER INFORMATION CONTACT: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN. The human remains and associated funerary objects were removed from site 40TR27, in Trousdale County, TN.

This notice is published as part of the National Park Service's administrative responsibilities under NAGPRA, 25 U.S.C. 3003(d)(3) and 43 CFR 10.9(e). The determinations in this notice are the sole responsibility of the museum, institution, or Federal agency that has control of the Native American human remains. The National Park Service is not responsible for the determinations in this notice.

Consultation

A detailed assessment of the human remains and associated funerary objects was made by TVA's professional staff. On September 25, 2019, the TVA invited the following Indian Tribes to consult on the disposition of the human remains and associated funerary objects: The Absentee-Shawnee Tribe of Indians of Oklahoma; Alabama-Coushatta Tribe of Texas [previously listed as Alabama-Coushatta Tribes of Texas]; Cherokee Nation; Eastern Band of Cherokee Indians; Eastern Shawnee Tribe of Oklahoma; Kialegee Tribal Town; Shawnee Tribe; The Muscogee (Creek) Nation; Thlopthlocco Tribal Town; and the United Keetoowah Band of Cherokee Indians in Oklahoma. On October 29, 2019, the TVA conducted a telephonic consultation with representatives of the Cherokee Nation; Eastern Band of Cherokee Indians; and The Muscogee (Creek) Nation. Hereafter, all the Indian Tribes listed in this section are referred to as “The Consulted and Notified Tribes.”

As a result of consultation, the Eastern Band of Cherokee Indians and The Muscogee (Creek) Nation jointly requested transfer of control of the human remains and associated funerary objects. No objections to this joint transfer of control were received from The Consulted and Notified Tribes.

History and Description of the Remains

Between 1980 and 1982, human remains representing, at minimum, 74 individuals were removed from the Duncan Tract site, 40TR27, in Trousdale County, TN. This site was first recorded by Robert Jolley in January 1980, as part of a TVA survey of potential soil borrow areas near the construction site of TVA's Hartsville Nuclear Plant. Under contract with the TVA, the Anthropological Research Center of Memphis State University (now Memphis University) mitigated the adverse effects of the planned soil borrow pit on this site.

Excavations took place primarily from August to December of 1980, with follow-up excavations in 1981 and 1982. The archeological methods employed included hand excavation and mechanical stripping of the plow zone, and excavation of features penetrating the subsoil. Seven circular structures were identified from post mold patterns and 130 pits were excavated. In their summary report of the excavations submitted to the TVA in 1983, Charles McNutt and Guy Weaver believed the primary occupations at the Duncan Tract site date to the Early and Middle Woodland, but radiocarbon dates and projectile points suggest the existence of an earlier, Archaic period occupation.

Sometime after 1982, Memphis University transferred the artifacts excavated from the Duncan Tract site to the Tennessee Division of Archaeology (TDOA) in Nashville, TN. According to TDOA, the TVA transferred the collection to the Department of Anthropology at the University of Tennessee at Knoxville (UTK) sometime between 1991 and 1997. None of the original excavation forms, maps, or notes have been found at Memphis University, TDOA, or UTK. The lack of original excavation documents has complicated the identification of associated and unassociated funerary objects that were intentionally placed with human remains. While it is possible that some objects were part of the midden soil through which the burial unit was excavated, due to the lack of definitive evidence, the TVA has decided to offer for disposition those items excavated at site 40TR27 from the features that held human remains.

Although most of the human remains are fragmentary, both males and females are present. They range in age from newborn to over 50 years old. No known individuals were identified. The 4,689 associated funerary objects found in burial features include two abraders, one piece of aster, six biface or biface fragments, 832 animal bones or bone fragments, eight radiocarbon samples, 10 pieces of charcoal, two pieces of chert, three cores, 1,459 pieces of debitage, one drill, one end scraper, 24 fire-cracked rocks, six flake tools, 536 unidentified flora fragments, four fossils, one piece of groundstone, 758 carbonized hickory nuts, one chert knife, 52 pieces of limestone, one stone pestle, one pot sherd, 10 projectile points or knives, one quartzite nodule, 536 pieces of rock, 55 rocks or debitage, three pieces of sandstone, two scrapers, one piece of shale, 75 shells, 43 shell and bone fragments, 143 soil samples, one animal tooth, two unifacial tools, two utilized flakes, 63 walnut fragments, 41 walnut and hickory fragments, and two worked animal bones.

Site 40TR27 lies outside the boundary of any area recognized by a final judgment of the Indian Claims Commission or the United States Court of Claims, or a ratified treaty as the aboriginal land of an Indian Tribe. On March 14, 1775, Richard Henderson, representing the Transylvania Company, met with the Cherokee to negotiate the purchase of land including Trousdale County, TN, for the creation of a 14th colony. The Treaty of Sycamore Shoals was not acknowledged by the United States government or the governments of the states of Virginia and North Carolina. Therefore, the land from which these human remains and associated funerary objects were removed is not the “tribal land” of an Indian Tribe or a Native Hawaiian organization, or the “aboriginal land” of an Indian Tribe pursuant to 43 CFR 10.11.

Pursuant to 25 U.S.C. 3006(c)(5) and 43 CFR 10.10(g)(2)(ii) and 10.16, the Native American Graves Protection and Repatriation Review Committee (Review Committee) may make a recommendation to the Secretary of the Interior (Secretary) for specific actions for disposition of any human remains and associated funerary objects not already addressed in 43 CFR 10.11. In April 2021, the Tennessee Valley Authority requested that the Review Committee consider a proposal to transfer control of the human remains and associated funerary objects in this notice jointly to the Eastern Band of Cherokee Indians and The Muscogee (Creek) Nation. The Review Committee carefully considered the request at its July 7, 2021 meeting and recommended to the Secretary that the proposed transfer of control proceed. An October 19, 2021 letter transmitted the Secretary's independent review and concurrence with the Review Committee that:

• Tennessee Valley Authority consulted with every appropriate Indian Tribe,

• None of The Consulted and Notified Tribes objected to the proposed transfer of control to the Eastern Band of Cherokee Indians and The Muscogee (Creek) Nation, and

• Tennessee Valley Authority may proceed with the agreed upon transfer of control of the human remains and associated funerary objects jointly to the Eastern Band of Cherokee Indians and The Muscogee (Creek) Nation.

Transfer of control is contingent on the publication of a Notice of Inventory Completion in the Federal Register. This notice fulfills that requirement.

Determinations Made by the Tennessee Valley Authority

Officials of the Tennessee Valley Authority have determined that:

• Pursuant to 25 U.S.C. 3001(9), the human remains described in this notice are Native American based on their presence in prehistoric archeological contexts and an osteological analysis.

• Pursuant to 25 U.S.C. 3003(e), the human remains described in this notice represent the physical remains of 74 individuals of Native American ancestry.

• Pursuant to 25 U.S.C. 3001(3)(A), the 4,689 objects described in this notice are reasonably believed to have been placed with or near individual human remains at the time of death or later as part of the death rite or ceremony.

• Pursuant to 25 U.S.C. 3001(2), a relationship of shared group identity cannot be reasonably traced between the Native American human remains and any present-day Indian Tribe.

• Pursuant to 43 CFR 10.11, the land from which these human remains and associated funerary objects were removed is not the “tribal land” of any Indian Tribe or Native Hawaiian organization, or the “aboriginal land of any Indian Tribe.

• Pursuant to 43 CFR 10.10(g)(2)(ii) and 10.16, the disposition of the human remains will be to the Eastern Band of Cherokee Indians and The Muscogee (Creek) Nation.

• The Tennessee Valley Authority has agreed to transfer control of the associated funerary objects to the Eastern Band of Cherokee Indians and The Muscogee (Creek) Nation.

Additional Requestors and Disposition

Representatives of any Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by December 8, 2021. After that date, if no additional requestors have come forward, transfer of control of the human remains and associated funerary objects to the Eastern Band of Cherokee Indians and The Muscogee (Creek) Nation may proceed.

The Tennessee Valley Authority is responsible for notifying The Consulted and Notified Tribes that this notice has been published.

Dated: October 29, 2021.
Melanie O'Brien,
Manager, National NAGPRA Program.

[FR Doc. 2021-24312 Filed 11-5-21; 8:45 am]

BILLING CODE 4312-52-P